DEPARTMENT OF JUSTICE

Notice of Lodging of Consent Decree Pursuant to the Clean Air Act

In accordance with Departmental policy, 28 C.F.R. 50.7, and section 113(g) of the Clean Air Act, (“Act”) 42 U.S.C. § 7413(g), notice is hereby given that on February 17, 2000, a proposed consent decree in United States v. Pan American Grain Manufacturing Co., Inc., (“PAGM”) Civil Action No. 98-1197 (JP) was lodged with the United States District Court for the District of Puerto Rico.

The proposed consent decree resolves the United States' claims against PAGM for violations of the Act and the requirements or prohibitions of the State Implementation Plan for the Commonwealth of Puerto Rico (“SIP”), promulgated pursuant to Section 110 of the Act, 42 U.S.C. § 7410, regarding particulate emissions from PAGM's grain handling and processing facilities in the Guaynabo, Puerto Rico area. Under the terms of the proposed consent decree, PAGM will pay a civil penalty of $410,000.00 to the United States, complete performance testing to demonstrate full compliance with the SIP regulations at each of its facilities, comply with operation standards prescribed by the proposed consent decree, file quarterly reports regarding its compliance efforts, and maintain compliance with the Act and the applicable SIP.

The Department of Justice will receive for a period of thirty (30) days from the date of this publication comments relating to the proposed consent decree. Comments should be addressed to the Assistant Attorney General of the Environment and Natural Resources Division, Department of Justice, Washington, D.C. 20530, and should refer to United States v. Pan American Grain Manufacturing Co., Inc., DOJ Ref. No. 90-5-2-1-2133.

The proposed consent decree may be examined at the office of the United States Attorney for the District of Puerto Rico, Federico Degeteau Federal Building, Carlos Chardon Avenue, Hato Rey, Puerto Rico 00918, and at the Region II Office of the Environmental Protection Agency, 290 Broadway, New York, New York, 10007. A copy of the proposed consent decree may also be obtained by mail from the Department of Justice Consent Decree Library, P.O. Box 7611, Washington, DC 20044-7611. In requesting a copy, please enclose a check, payable to the Consent Decree Library in the amount of $9.50 (25 cents per page reproduction costs) for the proposed consent decree alone, or $72.00 for the proposed consent decree with all attachments.

Joel M. Gross,
Chief, Environmental Enforcement Section, Environment and Natural Resources Division.

[FR Doc. 00-4592 Filed 2-25-00; 8:45 am]

BILLING CODE 4410-15-M